DEPARTMENT OF HEALTH AND HUMAN SERVICES

Administration for Children and Families

Submission for OMB Review; Comment Request

Proposed Projects:

Title: Evaluation of the Early Head Start Enhanced Home Visiting Pilot Project.

OMB No.: New Collection.

Description: The Head Start Reauthorization Act of 1994 established a special initiative creating funding for services for families with infants and toddlers. In response, the Administration on Children, Youth and Families (ACYF) within the Administration for Children and Families (ACF) developed the Early Head Start program. Since its inception, Early Head Start has expanded to include more than 700 programs and 70,000 families enrolled nationwide. The program is designed to produce outcome sin four domains: (1) Child development, (2) family development, (3) staff development and (4) community development. The Head Start Bureau has given programs a mandate to support the quality of all settings where children receive care by providing high-quality services and supporting parents and child care providers in caring for their young children.

In keeping with this mandate, the Head Start Bureau recently funded 24 Early Head Start programs to participate in the Enhanced Home Visiting Pilot Project. The goal of the pilot project is to develop program models for supporting relatives and neighbors and who care for Early Head Start children in acquiring the knowledge, skills and resources they need to support children's healthy development.

The Enhanced Home Visiting Pilot Project evaluation will collect and disseminate information about the program models and service delivery strategies developed by the pilot sites, as well as the characteristics and needs of participating children, families and caregivers. The evaluation will collect and analyze information from three main sources: (1) Interviews with staff and focus groups with parents and caregivers to be conducted during two rounds of visits to pilot programs (in spring 2005 and 2006), (2) a program recordkeeping system for tracking services to be maintained by the pilot sites and (3) observational assessments of the quality of the caregiving environment and the interactions between children and caregivers to be conducted in spring 2006. All data-collection instruments have been designed to minimize the burden on respondents by minimizing the time required to respond. Participation in the study is voluntary.

The results of the research will be used by the Head Start Bureau and ACF to identify and disseminate information about promising program models and service delivery strategies and lessons learned from the experiences of the pilot programs.

Respondent: Early Head Starts directors, coordinators, specialists and home visitors; staff from other community service providers; parents of Early Head Start children; and neighbor and relative caregivers of Early Head Start children.

Annual Burden Estimates

Estimated Response Burden for Respondents for the Enhanced Home Visiting Pilot Evaluation
Instrument | Number of respondents | Number of responses per respondent | Average burden per response (hours) | Annual burden (hours)
Site Visit Protocols (2005):
Director Protocol | 24 | 1 | 3.0 | 72.0
Coordinator/Specialist Protocol | 24 | 1 | 1.5 | 36.0
Community Partner Protocol | 24 | 1 | 1.5 | 36.0
Home Visitor Protocol | 48 | 1 | 1.5 | 72.0
Parent Protocol | 192 | 1 | 1.5 | 288.0
Caregiver Protocol | 192 | 1 | 1.5 | 288.0
Case Review Protocol | 48 | 1 | 3.0 | 144.0
Recordkeeping System (2005) | 24 | ᵃ27 | ᵇ2.0 | 1,296.0
Total for 2005 |  |  |  | 2,232.00
Site Visit Protocols (2006):
Director Telephone Protocol | 24 | 1 | 1.0 | 24.0
Director Protocol | 12 | 1 | 3.0 | 36.0
Coordinator/Specialist Protocol | 12 | 1 | 1.5 | 18.0
Community Partner Protocol | 12 | 1 | 1.5 | 18.0
Home Visitor Protocol | 24 | 1 | 1.5 | 36.0
Parent Protocol | 96 | 1 | 1.5 | 144.0
Case Review Protocol | 24 | 1 | 3.0 | 72.0
Recordkeeping System (2006) | 24 | ᵃ27 | ᵇ1.0 | 648.0
Caregiver Observations (2006) | 96 | 1 | 2.5 | 240.0
Total for 2006 |  |  |  | 1,236.0
Total for 2005 and 2006 |  |  |  | 1,734.0
ᵃ Average expected number of children to be enrolled in the pilot per site. Expected enrollment ranges from 7 to 60 across the 24 sites.
ᵇ Based on an estimated burden of 10 minutes per child per month.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF; e-mail address: Katherine_T._Astrich@omb.eop.gov.

Dated: March 4, 2005.
Robert Stargis,
Reports Clearance Officer.

[FR Doc. 05-4939 Filed 3-11-05; 8:45 am]

BILLING CODE 4184-01-M